TENNESSEE VALLEY AUTHORITY

[Meeting No. 10-03]

Sunshine Act Meeting Notice

June 10, 2010.

The TVA Board of Directors will hold a public meeting on June 10, 2010, at Lane College, Graves Auditorium, 545 Lane Avenue, Jackson, Tennessee 38301, to consider the matters listed below. The public may comment on any agenda item or subject at a public listening session which begins at 8:30 a.m. CDT. Immediately following the end of the public listening session, the meeting will be called to order to consider the agenda items listed below. Please Note: Speakers must pre-register online at TVA.gov or sign in before the meeting begins at 8:30 a.m. on the day of the meeting. The Board will answer questions from the news media following the Board meeting.

Status: Open

Agenda

Old Business

Approval of minutes of April 16, 2010, Board Meeting

New Business

1. Chairman's Remarks

2. President's Report

3. Report of the Finance, Strategy, Rates, and Administration Committee

A. Executive Goals

B. Pricing of Alcoa power contract extension

4. Report of the Operations, Environment, and Safety Committee

5. Report of the Audit, Governance, and Ethics Committee

A. Board governance update

6. Report of the Community Relations and Energy Efficiency Committee

A. EnerNOC capacity expansion agreement

B. Northeastern tributary reservoirs Land Management Plan

C. Hornsby Hollow commercial recreation easement

D. Regional Resource Stewardship Council charter renewal and revision

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: June 3, 2010.
Ralph E. Rodgers,
Acting General Counsel and Secretary.

[FR Doc. 2010-13875 Filed 6-4-10; 4:15 pm]

BILLING CODE 8120-08-P